FEDERAL TRADE COMMISSION

Agency Information Collection Activities; Proposed Collection; Comment Request; Extension

AGENCY: Federal Trade Commission.

ACTION: Notice.

SUMMARY: In accordance with the Paperwork Reduction Act of 1995 (PRA), the Federal Trade Commission (FTC or Commission) is seeking public comment on its proposal to extend for an additional three years the Office of Management and Budget clearance for information collection requirements pertaining to the Commission's administrative activities, consisting of: (a) responding to applications to the Commission pursuant to the Commission's Rules of Practice (Parts 1, 4 and 6); (b) the FTC's consumer reporting systems; and (c) the FTC's program evaluation activities. The current clearance expires on June 30, 2024.

DATES: Comments must be filed by July 22, 2024.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function. The reginfo.gov web link is a United States Government website produced by the Office of Management and Budget (OMB) and the General Services Administration (GSA). Under PRA requirements, OMB's Office of Information and Regulatory Affairs (OIRA) reviews Federal information collections.

FOR FURTHER INFORMATION CONTACT: G. Richard Gold, Attorney, Office of the General Counsel, Federal Trade Commission, (202) 326-3355, rgold@ftc.gov.

SUPPLEMENTARY INFORMATION:

Title of Collection: FTC Administrative Activities.

OMB Control Number: 3084-0169.

Type of Review: Extension of a currently approved collection.

Affected Public: Private Sector: Businesses and other for-profit entities.

Estimated Annual Burden Hours: 1,414,080 hours.

Estimated Annual Labor Costs: $21,600.

Abstract: The FTC collects information to carry out its administrative responsibilities pursuant to its Rules of Practice. Any person, partnership, or corporation may request advice from the Commission or FTC staff regarding a course of action the requester contemplates. The Commission's rules require requesters to provide the information necessary to facilitate resolution of the requests, including information on the question to be resolved, the identity of the companies or persons involved, and other material facts. See FTC Rule 1.2, 16 CFR 1.2. In addition, the FTC's ethics regulations require former employees who are seeking ethical clearance to participate in FTC matters to submit screening affidavits to facilitate resolution of their requests. See FTC Rule 4.1(b), 16 CFR 4.1(b). These requirements prevent the improper use of confidential nonpublic information acquired while working at the FTC. The Commission's Rules of Practice also authorize outside parties to request employee testimony, through compulsory process or otherwise, and to request documentary material through compulsory process in cases or matters to which the agency is not a party. See FTC Rule 4.11(e), 16 CFR 4.11(e). These rules require persons seeking testimony or material from the Commission to submit a statement in support of the request setting forth the party's interest in the case or matter, the relevance of the desired testimony or material, and a discussion of whether it is reasonably available from other sources.

The FTC also allows consumers to report fraud, identity theft, National Do Not Call Registry violations, and other violations of law through telephone hotlines and three online consumer report forms. Consumers may call a hotline phone number or log on to the FTC's website to report violations using the applicable reporting forms. The provision of this information is voluntary. The FTC also conducts customer satisfaction surveys regarding the support that the Commission's Consumer Response Center provides to consumers to obtain information about the overall effectiveness of the call center and online complaint intake forms. This information assists Bureau of Consumer Protection staff in carrying out the agency's consumer protection mission. The FTC is also mandated by Congress under the Identity Theft and Assumption Deterrence Act of 1998, 18 U.S.C. 1001 et seq., to serve as the central clearinghouse for identity theft complaints.

The FTC also conducts evaluations of the effectiveness of its merger divestiture orders. Following an order of divestiture in a merger matter, the FTC's Bureau of Competition's Compliance Division conducts brief calls with acquirers of divested assets to assess the effectiveness of these divestitures.

Request for Comment

On March 26, 2024, the FTC sought public comment on the information collection requirements pertaining to the Commission's administrative activities. 89 FR 20972. No germane comments were received. Pursuant to the OMB regulations, 5 CFR part 1320, that implement the PRA, 44 U.S.C. 3501 et seq., the FTC is providing this second opportunity for public comment while seeking OMB approval to renew the pre-existing clearance for these information collection requirements.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2024-13476 Filed 6-18-24; 8:45 am]

BILLING CODE 6750-01-P